DEPARTMENT OF AGRICULTURE

Rural Utilities Service: North Carolina Electric Membership Corporation; Notice of Finding of No Significant Impact

AGENCY: Rural Utilities Service, USDA.

ACTION: Notice of Finding of No Significant Impact.

SUMMARY: Notice is hereby given that the Rural Utilities Service (RUS) has made a Finding Of No Significant Impact with respect to a request from North Carolina Electric Membership Corporation for financing assistance from RUS to finance the construction of a 336 megawatt (MW), simple-cycle combustion turbine electric generating facility in Anson County North Carolina, and a 280 MW simple-cycle combustion turbine electric generation facility in Richmond County, North Carolina.

FOR FURTHER INFORMATION CONTACT: Lawrence Wolfe, Engineering and Environmental Staff, RUS, Stop 1571, 1400 Independence Avenue, SW., Washington, DC 20250-1571, telephone (202) 720-5093, e-mail larry.wolfe@usda.gov.

SUPPLEMENTARY INFORMATION: North Carolina Electric Membership Corporation proposes to construct and operate two simple-cycle combustion turbine electric generation projects. A 336 MW facility is proposed at a site located approximately 4 miles east of Lilesville, just to the north of Blewett Falls Road (SR 1745) and south of McCoy Creek in Anson County, North Carolina. Approximately 20 acres of the 178 acre site will be needed for the generation facility. The other project consists of a 280 MW facility proposed at a site approximately 2.54 miles southwest of Hamlet west of Airport Road and south of Marks Creek in Richmond County, North Carolina. Approximately 20 acres of the 258 acre site will be needed for the generation facility. This facility will also require the construction of 7.8 miles of 230 kV transmission line between the Rockingham Substation and the Richmond Substation. The transmission line will be constructed and operated by Progress Energy. North Carolina Electric Membership Corporation is expected to finance the cost of the project through an RUS guarantee. Specific information on the facilities to be constructed and their locations are provided in the environmental assessment.

Copies of the Finding of No Significant Impact are available from RUS at the address provided herein or from June Small, North Carolina Electric Membership Corporation, P.O. Box 27306, Raleigh, North Carolina 27611-7306. Ms. Small may be contacted by telephone at (919) 872-0800 or e-mail at june.small@ncemcs.com.

Dated: February 4, 2005.
James R. Newby,
Assistant Administrator, Electric Program.

[FR Doc. 05-2515 Filed 2-8-05; 8:45 am]

BILLING CODE 3410-15-P